DEPARTMENT OF THE INTERIOR

Bureau of Land Management

[18X LLWO600000.L18200000.XP0000]

2018 Second Call for Nominations for Resource Advisory Councils

AGENCY: Bureau of Land Management, Interior.

ACTION: Notice of call for nominations.

SUMMARY: The purpose of this Notice is to reopen the request for public nominations for certain Bureau of Land Management (BLM) Resource Advisory Councils (RAC) and other chartered Advisory Councils that have members whose terms are scheduled to expire. These Advisory Councils provide advice and recommendations to the BLM on land use planning and management of the National System of Public Lands within their geographic areas. The Advisory Councils covered by this request for nominations are identified below. The BLM will accept public nominations for 30 days after the publication of this Notice.

DATES: All nominations must be received no later than October 31, 2018.

ADDRESSES: Nominations and completed applications should be sent to the appropriate BLM offices listed in the SUPPLEMENTARY INFORMATION section of this Notice.

FOR FURTHER INFORMATION CONTACT: Carrie Richardson, BLM Communications, 1849 C Street NW, Room 5614, Washington, DC 20240, telephone: 202-501-2634, email: crichardson@blm.gov.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits and representatives of organizations associated with energy and mineral development, the timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in natural sciences, and the public-at-large.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—A completed RAC application;

—Letters of reference from represented interests or organizations; and

—Any other information that addresses the nominee's qualifications.

Simultaneous with this Notice, BLM State Offices will issue press releases providing additional information for submitting nominations, with specifics about the number and categories of member positions available for each RAC in the state.

Before including any address, phone number, email address, or other personal identifying information in the application, nominees should be aware this information may be made publicly available at any time. While the nominee can ask to withhold the personal identifying information from public review, the BLM cannot guarantee that it will be able to do so.

Nominations and completed applications for RACs should be sent to the appropriate BLM offices listed below:

Alaska

Alaska RAC

Lesli J. Ellis-Wouters, BLM Alaska State Office, 222 West 7th Street #13, Anchorage, AK 99513; Phone 907-271-4418.

California

Northern California RAC

Jeff Fontana, BLM Eagle Lake Field Office, 2550 Riverside Drive, Susanville, CA 96130, 530-252-5332.

Central California RAC and Carrizo Plain National Monument Advisory Council

Serena Baker, BLM Mother Lode Field Office, 5152 Hillsdale Circle, El Dorado Hills, CA 95762; Phone 916-941-3146.

Colorado

Rocky Mountain RAC

Amber Iannella, BLM Rocky Mountain District Office, 3028 East Main Street, Cañon City, CO 81212; Phone 719-269-8553.

Northwest RAC

David Boyd, BLM Northwest District Office, 2300 River Frontage Road, Silt, CO 81652; 970-876-9008.

Southwest RAC

Shannon Borders, BLM Southwest District Office, 2465 South Townsend Avenue, Montrose, CO 81401; Phone 970-240-5399.

Idaho

Boise District RAC

Michael Williamson, BLM Boise District Office, 3948 Development Avenue, Boise, ID 83705; 208-384-3393.

Coeur d'Alene District RAC

Suzanne Endsley, BLM Coeur d'Alene District Office, 3815 Schreiber Way, Coeur d'Alene, ID 83815; 208-769-5004.

Idaho Falls District RAC

Sarah Wheeler, BLM Idaho Falls District Office, 1405 Hollipark Drive, Idaho Falls, ID 83401; Phone 208-524-7550.

Twin Falls District RAC

Heather Tiel-Nelson, BLM Twin Falls District Office, 2878 Addison Avenue East, Twin Falls, ID 83301; Phone 208-736-2352.

New Mexico

Albuquerque District RAC

Mark Matthews, BLM Socorro Field Office, 901 South Highway 85, Socorro, NM 87801; Phone 575-838-1250.

Farmington District RAC

Zachary Stone, BLM Farmington District Office, 6251 College Boulevard, Farmington, NM 87402; Phone 505-564-7677.

Las Cruces District RAC

Deborah Stevens, BLM Las Cruces District Office, 1800 Marquess Street, Las Cruces, NM 88005; Phone 575-525-4421.

Pecos District RAC

Glen Garnand, BLM Pecos District Office, 2909 West Second Street, Roswell, NM 88201; 575-627-0209.

Nevada

Mojave-Southern Great Basin RAC

Kirsten Cannon, Southern Nevada District Office, 4701 North Torrey Pines Drive, Las Vegas, NV 89130; Phone 702-515-5057.

Northeastern Great Basin RAC

Kyle Hendrix, Battle Mountain District Office, 50 Bastian Road, Battle Mountain, NV 89820; Phone 775-635-4054.

Sierra Front Northwestern Great Basin RAC

Lisa Ross, Carson City District Office, 5665 Morgan Mill Road, Carson City, NV 89701; Phone 775-885-6107.

Oregon/Washington

Eastern Washington RAC

Jeff Clark, BLM Spokane District Office, 1103 North Fancher Road, Spokane, WA 99212; 509-536-1297.

John Day-Snake RAC

Lisa Clark, BLM Prineville District Office, 3050 NE 3rd Street, Prineville, OR 97754; 541-416-6864.

Northwest Oregon RAC

Jennifer Velez, BLM Northwest Oregon District Office, 1717 Fabry Road SE, Salem, OR 97306; Phone 541-222-9241.

Southeast Oregon RAC

Larisa Bogardus, BLM Lakeview District Office, 1301 S. G Street, Lakeview, OR 97630; Phone 541-947-6237.

Steens Mountain Advisory Council

Tara Thissell, BLM Burns District Office, 28910 Highway 20 West, Hines, OR 97738; Phone 541-573-4519.

Utah

Utah RAC

Lola Bird, BLM Utah State Office, 440 West 200 South, Suite 500, Salt Lake City, UT 84101; Phone 801-539-4033.

(Authority: 43 CFR 1784.4-1)

Jeff Krauss,
Acting Assistant Director for Communications.

[FR Doc. 2018-21306 Filed 9-28-18; 8:45 am]

BILLING CODE 4310-84-P